GENERAL SERVICES ADMINISTRATION

[OMB Control No. 3090-0278]

National Contact Center; Submission for OMB Review; National Contact Center Customer Evaluation Survey

AGENCY: Citizen Services and Communications, Federal Consumer Information Center, GSA.

ACTION: Notice of request for comments regarding a renewal to an existing OMB clearance.

SUMMARY: Under the provisions of the Paperwork Reduction Act of 1995 (44 U.S.C. Chapter 35), the General Services Administration will be submitting to the Office of Management and Budget (OMB) a request to review and approve a renewal of a previously approved information collection requirement regarding the National Contact Center customer evaluation survey. A request for public comments was published in the Federal Register at 74 FR 59981, on November 19, 2009. No comments were received.

Public comments are particularly invited on: Whether this collection of information is necessary and whether it will have practical utility; whether our estimate of the public burden of this collection of information is accurate and based on valid assumptions and methodology; and ways to enhance the quality, utility, and clarity of the information to be collected.

DATES: Submit comments on or before: March 8, 2010.

ADDRESSES: Submit comments regarding this burden estimate or any other aspect of this collection of information, including suggestions for reducing this burden to GSA Desk Officer, OMB, Room 10236, NEOB, Washington, DC 20503, and a copy to the Regulatory Secretariat (MVPR), General Services Administration, Room 4041, 1800 F Street, NW., Washington, DC 20405. Please cite OMB Control No. 3090-0278, National Contact Center Customer Evaluation Survey, in all correspondence.

FOR FURTHER INFORMATION CONTACT: Tonya Beres, Federal Information Specialist, Office of Citizen Services and Communications, at telephone (202) 501-1803 or via e-mail to tonya.beres@gsa.gov.

SUPPLEMENTARY INFORMATION:

A. Purpose

This information collection will be used to assess the public's satisfaction with the National Contact Center service, to assist in increasing the efficiency in responding to the public's need for Federal information, and to assess the effectiveness of marketing efforts.

B. Annual Reporting Burden

Respondents: 4,200.

Responses per Respondent: 1.

Hours per Response: .05 (3 minutes) for phone survey and .06 (4 minutes) for email survey.

Total Burden Hours: 270.

Obtaining Copies of Proposals: Requesters may obtain a copy of the information collection documents from the General Services Administration, Regulatory Secretariat (MVPR), 1800 F Street, NW., Room 4041, Washington, DC 20405, telephone (202) 501-4755. Please cite OMB Control No. 3090-0278, National Contact Center Customer Evaluation Survey, in all correspondence.

Dated: January 26, 2010.
Casey Coleman,
Chief Information Officer.

[FR Doc. 2010-2495 Filed 2-4-10; 8:45 am]

BILLING CODE 6820-CX-P